NATIONAL AERONAUTICS AND SPACE ADMINISTRATION

48 CFR Parts 1802, 1804, 1805, 1806, 1807, 1808, 1811, 1813, 1814, 1815, 1822, 1824, 1825, 1828, 1830, 1831, 1832, 1833, 1834, 1835, 1836, 1839, 1841, 1843, 1844, 1847, 1849, 1850, 1851, and 1852

RIN 2700-AE01 and 2700-AE09

NASA Federal Acquisition Regulation Supplement; Correction

AGENCY: National Aeronautics and Space Administration.

ACTION: Correcting amendments.

SUMMARY: The National Aeronautics and Space Administration (NASA) published a final rule in the Federal Register on Thursday, March 12, 2015 (80 FR 12935), as part of the NASA Federal Acquisition Regulation Supplement (NFS) regulatory review. That final rule contained errors that need to be corrected.

DATES: Effective: March 15, 2016.

FOR FURTHER INFORMATION CONTACT: Manuel Quinones, NASA, Office of Procurement, Contract and Grant Policy Division, via email at manuel.quinones@nasa.gov, or telephone (202) 358-2143.

SUPPLEMENTARY INFORMATION:

I. Background

NASA published a final rule in the Federal Register on March 12, 2015, which became effective April 13, 2015. This rule is part of the NASA FAR Supplement regulatory review. As published, the rule contained errors that require the following changes:

• Revise section 1845.107-70(a)(1) to correct the title of the prescribed clause to “Contractor Requests for Government-furnished Property.”

• Revise section 1852.227-70 clause title to “NEW TECHNOLOGY—OTHER THAN A SMALL BUSINESS FIRM OR NONPROFIT ORGANIZATION.”

• Revise section 1852.245-70 clause title to “Contractor Requests for Government-furnished Property.”

• Update the authority citation of several NFS parts.

List of Subjects in 48 CFR Parts 1802, 1804, 1805, 1806, 1807, 1808, 1811, 1813, 1814, 1815, 1822, 1824, 1825, 1828, 1830, 1831, 1832, 1833, 1834, 1835, 1836, 1839, 1841, 1843, 1844, 1847, 1849, 1850, 1851, and 1852

Government procurement.

Manuel Quinones,
NASA FAR Supplement Manager.

Accordingly, 48 CFR parts 1802, 1804, 1805, 1806, 1807, 1808, 1811, 1813, 1814, 1815, 1822, 1824, 1825, 1828, 1830, 1831, 1832, 1833, 1834, 1835, 1836, 1839, 1841, 1843, 1844, 1847, 1849, 1850, 1851, and 1852 are amended as follows:

PARTS 1802, 1804, 1805, 1806, 1807, 1808, 1811, 1813, 1814, 1815, 1822, 1824, 1825, 1828, 1830, 1831, 1832, 1833, 1834, 1835, 1836, 1839, 1841, 1843, 1844, 1847, 1849, 1850, 1851, and 1852—[AMENDED]

1. The authority citation for parts 1802, 1804, 1805, 1806, 1807, 1808, 1811, 1813, 1814, 1815, 1822, 1824, 1825, 1828, 1830, 1831, 1832, 1833, 1834, 1835, 1836, 1839, 1841, 1843, 1844, 1847, 1849, 1850, 1851, and 1852 is revised to read as follows:

Authority: 51 U.S.C. 20113(a) and 48 CFR chapter 1.

PART 1845—GOVERNMENT PROPERTY

1845.107-70 [Amended]

2. Amend section 1845.107-70(a)(1) by removing “Government-Provided Property” and adding “Government-furnished Property” in its place.

PART 1852—SOLICITATION PROVISIONS AND CONTRACT CLAUSES

1852.227-70 [Amended]

3. Amend section 1852.227-70 by removing “NEW TECHNOLOGY” and adding “NEW TECHNOLOGY—OTHER THAN A SMALL BUSINESS FIRM OR NONPROFIT ORGANIZATION” in its place.

4. Revise section 1852.245-70 heading and title of the clause to read as follows:

1852.245-70 Contractor requests for Government-furnished equipment.

* * * * *

CONTRACTOR REQUESTS FOR GOVERNMENT-FURNISHED PROPERTY (AUG 2015)

* * * * *

[FR Doc. 2016-05803 Filed 3-14-16; 8:45 am]

BILLING CODE 7510-13-P